GENERAL SERVICES ADMINISTRATION

Governmentwide Per Diem Advisory Board

AGENCY: Office of Governmentwide Policy, GSA.

ACTION: Notice of meeting.

SUMMARY: Notice is hereby given that the Governmentwide Per Diem Advisory Board will hold an open meeting from 8:30 a.m. to 4 p.m. on Tuesday, August 13, 2002. The meeting will be held at The Council on Foundations Conference Center, 1828 L Street, NW., Suite 505, Washington, DC 20036. This meeting is open to the public. Members of the public who wish to file a written statement with the Board may do so in writing c/o Rob Miller, Designated Federal Officer (MTT), General Services Administration, 1800 F St., NW., Room G-219, Washington, DC 20405, or via e-mail at robl.miller@gsa.gov. Due to critical mission and schedule requirements, there is insufficient time to provide the full 15 calendar days' notice in the Federal Register prior to this meeting, pursuant to the final rule on Federal Advisory Committee management codified at 41 CFR 102-3.150.

Purpose: To review the current process and methodology that is used by GSA's Office of Governmentwide Policy to determine the per diem rates for destinations within the continental United States (CONUS). The Board will receive a committee report for developing an organizational structure to improve the per diem process, and receive a committee plan for identifying best practices for a Governmentwide lodging program.

For security and building access: (1) Attendees should be prepared to present a government-issued photo identification; (2) ADA accessible facility; (3) Public seating may be limited.

FOR FURTHER INFORMATION CONTACT: Rob Miller, Designated Federal Officer, on (202) 501-4621, or Joddy Garner on (202) 501-4857, Per Diem Program Manager, General Services Administration. Also, inquiries may be sent to robl.miller@gsa.gov.

Dated: July 29, 2002.
Peggy DeProspero,
Acting Director of Travel Management Policy, Office of Transportation and Personal Property.

[FR Doc. 02-19568 Filed 8-1-02; 8:45 am]

BILLING CODE 6820-14-P